DEPARTMENT OF HEALTH AND HUMAN SERVICES

Food and Drug Administration

21 CFR Part 1240

[Docket No. FDA-2013-N-0639]

Turtles Intrastate and Interstate Requirements

Correction

In rule document 2013-17751 appearing on pages 44878-44881 in the issue of July 25, 2013, make the following correction:

On page 44879, in the first column, under the DATES heading, in the first and second lines, “January 16, 2014” should read “December 9, 2013”.

[FR Doc. C1-2013-17751 Filed 10-24-13; 8:45 am]

BILLING CODE 1505-01-D